DEPARTMENT OF ENERGY

Federal Energy Regulatory Commission

Notice of Applications Ready for Environmental Analysis and Soliciting Comments, Recommendations, Terms and Conditions, and Prescriptions

July 14, 2000.

Take notice that the following hydroelectric applications have been filed with the Commission and are available for public inspection:

a. Type of Applications: New Major Licenses.

b. Project Nos.: 1975-014; 2061-004; 2777-007; 2778-005.

c. Dates filed: December 20, 1995 and May 27, 1997.

d. Applicant: Idaho Power Company.

e. Name of Projects: Bliss, Lower Salmon Falls, Upper Salmon Falls, Shoshone Falls Water Power Projects.

f. Locations:

Bliss Project—On the mainstem Snake River, about 6 miles west of the town of Bliss, in Gooding, Twin Falls, and Elmore Counties, Idaho. The project is partially located within federal lands administered by the Bureau of Land Management.

Lower Salmon Falls—On the mainstem Snake River, about 2 miles north of the town of Hagerman, in Gooding and Twin Falls Counties, Idaho. The project is partially located within federal lands administered by the Bureau of Land Management.

Upper Salmon Falls—On the mainstem Snake River, about 3 miles south of the town of Hagerman, in Gooding and Twin Falls Counties, Idaho. The project does not involve any federal lands.

Shoshone Falls—On the mainstem Snake River, about 4 miles east of the town of Twin Falls, in Jerome and Twin Falls Counties, Idaho. The project is partially located within federal lands administered by the Bureau of Land Management.

g. Filed Pursuant to: Federal Power Act, 16 USC 791(a)-825(r).

h. Applicant Contact: Robert W. Stahman, Idaho Power Company, 1221 West Idaho street, P.O. Box 70, Boise, ID 83707, (208) 388-2676.

i. FERC Contact: John Blair, john.blair@ferc.fed.us, (202)-219-2845.

j. Deadline for filing comments, recommendations, terms and conditions, and prescriptions: 60 days from the issuance date of this notice.

All documents (original and eight copies) should be filed with: David P. Boergers, Secretary, Federal Energy Regulatory Commission, 888 First Street, NE, Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

k. These applications has been accepted for filing and are now ready for environmental analysis.

l. The Bliss project consists of the following existing facilities: (1) a 364-foot-long, 38-foot-high concrete dam with a 216-foot-long spillway; (2) a 5-mile-long, 255-acre reservoir with a water surface elevation of 2,654.0 feet above mean sea level (msl), with a total storage capacity of 11,100 acre-feet; (3) a powerhouse (integral with the dam) with a total installed capacity of 75 megawatts, producing about 493 gigawatthours (GWh) annually; (4) a 10.5-mile-long, 138-kilovolt primary transmission line; and other appurtenances.

The Lower Salmon Falls project consists of the following existing facilities: (1) A 700-foot-long, 38-foot-high concrete dam with a 312-foot-long spillway; (2) a 6.6-mile-long, 750-acre reservoir with a water surface elevation of 2,798 feet msl, with a total storage capacity of 11,100 acre feet; (3) a powerhouse with a total installed capacity of 60 megawatts, producing about 343 GWh annually; (4) two 138-kV primary transmission lines (0.10- and 0.15-mile-long).

The Upper Salmon Falls project consists of the following existing facilities: (1) A 1,620-foot-long, 14-foot-high concrete dam with a 240-foot-long spillway; (2) a 5.8-mile-long, 50 acre reservoir with a surface elevation of 2,878 feet msl, with a total storage capacity of 600 acre feet; (3) a powerhouse with a total installed capacity of 34 megawatts, producing about 32l GWh annually.

The Shoshone Falls project consists of the following existing facilities: (1) A 779-foot-long, 16-foot-high dam with a 380-foot-long spillway; (2) a 1.8 mile long, 86 acre reservoir with a water surface elevation of 3,354 feet msl with a total storage capacity of 11,100 acre feet; (3) a powerhouse with a total installed capacity of 12.5 megawatts, producing about 110 GWh annually

m. A copy of the applications are available for inspection and reproduction at the Commission's Public Reference Room, located at 888 First Street, NE, Room 2A, Washington, D.C. 20426, or by calling (202) 208-1371. The applications may be viewed on http://www.ferc.fed.us/online/rims.htm (call (202) 208-2222 for assistance). Copies are also available for inspection and reproduction at the address in item “h” above.

Filing and Service of Responsive Documents—The application is ready for environmental analysis at this time, and the Commission is requesting comments, reply comments, recommendations, terms and conditions, and prescriptions.

The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice.

Anyone may obtain an extension of time for these deadlines from the Commission only upon a showing of good cause or extraordinary circumstances in accordance with 18 CFR 385.2008.

All filings must (1) bear in capital letters the title “COMMENTS ”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Any of these documents must be filed by providing the original and the number of copies required by the Commission's regulations to: The Secretary, Federal Energy Regulatory Commission, 888 First Street, N.E., Washington, DC 20426. An additional copy must be sent to Director, Division of Environmental Engineering Review, Federal Energy Regulatory Commission, at the above address. Each filing must be accompanied by proof of service on all persons listed on the service list prepared by the Commission in this proceeding, in accordance with 18 CFR 4.34(b), and 385.2010.

Linwood A. Watson, Jr.,
Acting Secretary.

[FR Doc. 00-18334 Filed 7-19-00; 8:45 am]

BILLING CODE 6717-01-M